DEPARTMENT OF COMMERCE

International Trade Administration

Applications for Duty-Free Entry of Scientific Instrument

Pursuant to section 6(c) of the Educational, Scientific and Cultural Materials Importation Act of 1966 (Pub. L. 89-651, as amended by Public Law 106-36; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Room 2104, 14th and Constitution Avenue, NW., Washington, DC 20230. Applications may be examined between 8:30 a.m. and 5 p.m. in Room 2104, at the above address.

Docket Number: 07-056. Applicant: Illinois Institute of Technology, 3300 South Federal Street, Chicago, IL 60616. Instrument: Micro Test Pendulum with Hot-Stage Extension & Spherical Indenters. Manufacturer: Micro Materials Ltd., United Kingdom. Intended Use: The instrument is intended to be used to investigate the micro-mechanical properties of metallic and inter-metallic material systems for structural applications. (2-3,5) Elevated temperature (>700 °C) micro-indentation tests will be performed on a range of experimental alloys and compounds to assist in an alloy development program. The System will be used to train graduate students and post-doctoral researchers as part of a research program on understanding the fundamental deformation mechanisms of high temperature structural materials.

The micro test pendulum with hot-stage extension and spherical indenters is capable of testing materials at temperatures in excess of 700 °C or at a load capacity of 10kN. Both of these features are critical in the assessment of mechanical properties of high strength materials at elevated temperature. Also, the horizontal design of the System enables the insertion of a heat shield that prevents radiative heating of the sensitive electronics and allows for testing of specimens at temperatures in excess of 750 °C. Application accepted by Commissioner of Customs: August 12, 2007.

Faye Robinson,
Director, Statutory Import Programs Staff Import Administration.

[FR Doc. E7-18015 Filed 9-11-07; 8:45 am]

BILLING CODE 3510-DS-P